NATIONAL FOUNDATION ON THE ARTS AND THE HUMANITIES

Delegation of Authority

AGENCY: National Endowment for the Arts.

ACTION: Notice.

SUMMARY: Notice is hereby given of the order of succession in the absence of the Chairman of the National Endowment for the Arts.

DATES: Upon publication.

FOR FURTHER INFORMATION CONTACT: Craig McCord, Director of Human Resources, National Endowment for the Arts, 1100 Pennsylvania Avenue, NW., Room 627, Washington, DC 20506, (202) 682-5473.

In the absence of the Chairman, those listed below are designated to exercise the duties of the Chairman: Senior Deputy Chairman, or if the incumbent is unavailable, Deputy Chairman for Management and Budget, or if the incumbent is unavailable, Deputy Chairman for Grants and Awards, or if the incumbent is unavailable, Deputy Chairman for States, Regions, and Local Arts Agencies, or if the incumbent is unavailable, Director of the Office of Government Affairs, or if the incumbent is unavailable, Chief Information Officer, or if the incumbent is unavailable, Director of the Office of Research and Analysis.

This delegation will remain in effect until revoked or otherwise superseded.

Kathleen Edwards,
Director of Administrative Services, National Endowment for the Arts.

[FR Doc. E8-17240 Filed 7-28-08; 8:45 am]

BILLING CODE 7537-01-P